POSTAL SERVICE

39 CFR Part 111

Postmarks and Postal Possession

AGENCY: Postal Service.

ACTION: Final rule.

SUMMARY: The Postal Service is adding section 608.11, “Postmarks and Postal Possession,” to the Domestic Mail Manual (DMM). This new section defines postmarks, identifies the types of Postal Service markings that qualify as postmarks, and describes the circumstances under which those markings are applied. It also advises customers of how to obtain evidence of the date on which the Postal Service accepts possession of their mailings. This new language in the DMM does not change any existing postal operations or postmarking practices, but is instead intended to improve public understanding of postmarks and their relationship to the date of mailing.

DATES: Effective December 24, 2025.

FOR FURTHER INFORMATION CONTACT: Martha Johnson, Senior Public Relations Representative, at martha.s.johnson@usps.gov or (202) 268-2000.

SUPPLEMENTARY INFORMATION:

Table of Contents

I. Introduction

II. Comments

III. Response to Comments

IV. Explanation of Final Rules

I. Introduction

On August 12, 2025, the Postal Service published a proposed rule in the Federal Register, Postmarks and Postal Possession, 90 FR 38716 (Aug. 11, 2025) (hereafter “the Proposed Rule”). The Proposed Rule defined the postmark and explained the Postal Service's operational use of the postmark; identified the types of Postal Service markings that qualify as postmarks (together with certain auxiliary markings and scan data that are generated during the course of postal operations and that indicate postal possession of a mailpiece but do not qualify as postmarks); described how and where in the course of postal operations such markings are applied; and clarified the scope of information that such markings do and do not convey. The Proposed Rule further advised that, while the presence of a postmark on a mailpiece confirms that the Postal Service was in possession of the mailpiece on the date of the postmark's inscription, the postmark date does not inherently or necessarily align with the date on which the Postal Service first accepted possession of the mailpiece. The Proposed Rule further noted that this lack of alignment has and will become more common with the implementation of the Regional Transportation Optimization (RTO) initiative and the corresponding adoption of “leg”-based service standards. (90 FR 10857). The Proposed Rule then advised customers to request a manual (local) postmark at a retail location if they want to ensure that their mailpiece receives a postmark containing a date that aligns with the date on which the Postal Service first accepted possession of their mailpiece, and reminded customers who wish to retain proof of the date on which the Postal Service first accepted possession of their mailpiece(s) of the services (including Certificates of Mailing) that provide such proof. Finally, the Proposed Rule submitted a new Section 608.11 of the Domestic Mail Manual (DMM), for the public's consideration.

While the Postal Service has chosen to utilize the notice-and-comment rulemaking process for this Proposed Rule, we note that this is not a rulemaking in the traditional sense. As stated in the Proposed Rule, nothing in DMM Section 608.11 effectuates any changes in how, or the extent to which, the Postal Service applies postmarks to mailpieces. However, the postmark was not previously defined in any current Postal Service regulations, and the Postal Service considered it appropriate to reflect these existing practices in the DMM to ensure that customers have a clear understanding of the postmark and what it means.

The Proposed Rule sought public input on DMM Section 608.11, welcoming the perspectives of customers, government entities, industry stakeholders, and other interested parties. In particular, the Proposed Rule solicited recommendations on how to effectively inform customers of the new DMM provision and explain its meaning and feasible suggestions to advise and accommodate customers who want proof of the date on which the Postal Service first accepted possession of their mailings.

II. Comments

The Postal Service received 130 comments on the Proposed Rule, approximately 80 of which consisted of form letters—or, more precisely, one of three distinct form letters (each one using similar, if not verbatim, language) submitted multiple times. Issues raised by these letters include the alleged “dilution” of the postmark's meaning, impacts on rural and sparsely populated regions, and the importance of postmarks for mail-in ballots and other documents (e.g., tax returns) subject to strict deadlines. Approximately 25 additional comments were submitted by members of the public writing on their own behalf; these comments range from simple statements of opposition to detailed critiques of proposed DMM Section 608.11. Numerous commenters—among them several election officials, one county Board of Elections, and certain independent institutions—expound at length on mail-in voting, raising concerns about postmarking deadlines and potentially discarded Ballot Mail. Finally, some industry mailers and labor organizations contributed comments echoing the concerns of other commenters, notably with regard to mail-in voting, postmarking deadlines more generally, and the need for robust public education and outreach. These concerns are discussed more fully below.

Some commenters suggested operational or staffing changes, new or expanded product offerings, educational outreach endeavors, various means of communicating relevant information to customers, and detailed revisions to DMM Section 608.11. The Postal Service thanks these commenters for their recommendations, which are discussed more fully below. Some comments raised issues (and/or advanced arguments) outside the scope of the present rulemaking. These issues and arguments, which will be excluded from the discussion below, include:

• Criticism of mail-in voting as a general practice. While the Proposed Rule contains information of potential relevance to election officials and to citizens who choose to vote by mail, the Postal Service does not administer elections, establish the rules or deadlines that govern elections, or determine whether or how election jurisdictions utilize the mail or incorporate our postmark into their rules. The Postal Service also does not advocate for or against any particular voting practices (including mail-in voting). Instead, the Postal Service collects, processes, transports, and delivers mail and packages that are mailable under federal law. As part of that role, we deliver the nation's Election Mail when public policy makers and election officials choose to use the mail as a part of their election system and when citizens choose to utilize our services to participate in an election.

• Concerns about missed or belatedly applied postmarks. As explained in the Proposed Rule, DMM Section 608.11 in no way signals a change in our postmarking procedures; postmarks will continue to be applied to Single-Piece First Class Mail pieces, both letter-shaped and flat-shaped, in the same manner and to the same extent as before. Of course, mistakes occur in the normal course of postal operations; the Proposed Rule explains as much, noting that occasional circumstances may arise where a legible postmark is not applied (for instance when two mailpieces are stuck together as they run through a cancelling machine, when the machine runs out of ink or smears when applying postmarks, and so forth). For this reason, we have informed our customers who choose to vote by mail that they can “ensure that a postmark is applied to [their] return ballot by visiting a Postal Service retail [location] and requesting a postmark from a retail associate when dropping off the ballot.” Kit 600, USPS Postmarking Guidelines (2024), available at https://about.usps.com/kits/kit600/kit600_039.htm. That same guidance would also address concerns about postmark dates, as the date on a manual (local) postmark applied at retail location aligns with the date that the customer tendered the return ballot for mailing. The present rulemaking, however, does not involve any operational changes that would increase the frequency of missed or misapplied postmarks; it is intended to explain the Postal Service's operational use of the postmark and to clarify what information postmarks can be reliably taken to convey.

• Criticisms of the Delivering for America (DFA) strategic plan. As noted in the Proposed Rule, RTO increases the likelihood that a postmark applied at originating processing facilities—the locations where postmarks are typically applied—will contain a date that does not align with the date on which the Postal Service first accepted possession of the mailpiece. RTO was the subject of an earlier rulemaking (90 FR 10857) and separate proceedings before the Postal Regulatory Commission (PRC Docket No. N2024-1). The Proposed Rule here is intended to define the postmark and inform the public of its meaning and operational uses. While the need for such clarification is due in part to RTO's changes to transportation and processing schedules, which will enable the Postal Service to significantly increase our operational efficiency and reduce costs, thereby supporting our efforts to continue to provide universal postal services in a financially self-sufficient manner, as the law requires, neither RTO nor any other initiative within the DFA plan are themselves the subject of this Proposed Rule.

• Postal Service Funding. One comment urges: “It's essential that the USPS be funded at a level that maintains the service on which we rely.” As an initial matter, the Postal Service, by statute, is designed to be self-funded and self-sufficient. The Postal Service generally receives no tax dollars for operating expenses and relies on the sale of postage, products and services to fund its operations. To the extent this comment is recommending legislative changes, such recommendations are beyond the scope of this rulemaking and the Postal Service's authority. Moreover, while certain operational initiatives discussed in the Proposed Rule (e.g., RTO) are designed to promote financial sustainability, such initiatives do not themselves fall within the scope of the present rulemaking, which is, as noted, confined to the postmark. Finally, as explained in the Notice of Proposed Rulemaking, the postmark is not, and never has been, a service, but has always performed functions (e.g., cancelling postage) internal to the Postal Service operations.

Other comments betray factual misapprehensions that, while not addressed in the discussion below, warrant correction. According to one comment, voters will be required to “pay extra” for expedited handling of Ballot Mail. However, this Proposed Rule does not change the handing of Ballot Mail or any other mail, but simply clarifies the meaning of the postmark. Nor is it correct that, as predicted by other comments, current postmarks will be supplanted by new (and substantially different) postmarks, replaced in some way by notices that Postal Service has possession of a mailpiece, or eliminated in their entirety. As noted, DMM Section 608.11 seeks to define the postmark as it presently exists, not to change it, and certainly not to eliminate it. To reiterate, postmarks will continue to be applied to Single-Piece First-Class Mail, both letter-shaped and flat-shaped, in the same manner and to the same extent as before.

All remaining comments within scope of this proceeding are addressed below.

III. Response to Comments

A. Issues and Concerns

Some comments commend the Proposed Rule for the clarity and transparency it imparts. One observes that proposed DMM Section 608.11 “clearly defines and codifies the role of the postmark.” Another “applaud[s] the Postal Service's formalization and coalescence of existing policies and understandings regarding postmarks into a single uniform rule,” noting that “[t]his will provide greater clarity and authority regarding the meaning of a postmark. . . .” The Postal Service appreciates these comments, as they acknowledge the intent behind the Proposed Rule: not to diminish or supplant the postmark, but to clarify its meaning, such that customers better understand what it is and the purposes for which it may be relied upon.

Most comments adopt a more critical posture, but those comments generally misapprehend the current meaning of the postmark and the purpose of this rulemaking. One expresses concern with the perceived impetus behind the Proposed Rule: namely, to “move the public and customers away from viewing the postmark as a definitive date” on which a mailpiece was “received by the [Postal Service].” As explained in the Proposed Rule, postmarks applied at originating processing facilities have never provided a perfectly reliable indicator of the date on which the Postal Service first accepted possession of a mailpiece, and this fact will become more common under RTO. Therefore, to the extent that customers currently have this view of the postmark, it does not reflect the realities of postal operations. The purpose of DMM Section 608.11, and our forthcoming education efforts, is to make the actual meaning of the postmark more widely known, so that customers who may currently lack a clear understanding of the postmark can, if necessary, make adjustments to their mailing behavior—for example, by dispatching their mailings earlier, obtaining a manual (local) postmark at a retail location at no additional cost, or purchasing a Certificate of Mailing. However, to suggest (in the words of one form letter) that “this proposal quietly ends any meaningful reliability of a postmark as indicia or proof of mailing” is completely inaccurate, given that DMM Section 608.11 plainly states, “[t]he presence of a postmark confirms that the Postal Service accepted custody of a mailpiece, and that the mailpiece was in the possession of the Postal Service on the identified date.”

Some comments urge the Postal Service not to “implement” the “policies” described by the Proposed Rule, which also stems from a misunderstanding of DMM Section 608.11's nature and scope. These comments appear to assume that adoption of this DMM provision will prompt operational changes in how the postmark is applied, thereby altering the quality of information that postmarks as such convey. One comment, for instance, criticizes what it claims to be “the proposed changes to eliminate same-day postmarks.” This comment ignores, however, that “same-day postmarks” (i.e., postmarks bearing dates that align with the date on which the Postal Service first accepted possession of a mailpiece) will in many instances continue to be applied through automation and will remain available in all cases upon request at the retail counter. Meanwhile, multiple others perceive in the Proposed Rule an attempt to “devalue” the traditional postmark, and/or to “dilute” (or even “destroy”) its alleged status as proof of the date that the Postal Service first accepted possession of a mailpiece. Yet to reiterate, the Proposed Rule aims to clarify the meaning and value of the postmark, not to change its meaning or destroy its utility. By notifying the public of the realities of postal operations; by offering a definition of the postmark embodied in regulation; and by listing out the various available indicia of postal possession, the present rulemaking seeks to clarify and preserve, rather than erode, the value of the postmark for customers who may rely upon it.

The above concerns may also reflect a view of the postmark fundamentally as a service that the Postal Service provides—one on par with, for example, reliable mail delivery and P.O. Box rentals. Indeed, multiple commenters characterize the postmark in just this way, describing it variously as an “essential benefit,” a “public good,” or a “service” that the Proposed Rule somehow threatens. This conception of the postmark possibly informs the demand, proclaimed in one frequently submitted form letter, that the postmark date and the date of first postal possession be made always and without exception to align. Yet as explained in the Notice of Proposed Rulemaking, the postmark is not a service, and the Postal Service does not hold it out as such to the public. In any event—despite insinuations to the contrary—the proposed DMM language does not mean that the Postal Service plans to postmark mailpieces less consistently, accurately, or reliably than before. As stated throughout this process, this new language in the DMM does not change any existing postal operations or postmarking practices, but is instead intended to improve public understanding of postmarks and their relationship to the date of mailing.

To be sure, the Postal Service is well aware and readily acknowledges that third parties have utilized the postmark for various purposes and have potentially infused it with their own particular meanings. Indeed, the Proposed Rule identified numerous third-party uses of the postmark, including court rules that concern the filing of specific documents, federal statutes such as the Internal Revenue Service code, state tax statutes and other laws, and numerous election jurisdictions that utilize the postmark to accept certain completed ballots as timely where they are sent by mail but are received after Election Day. Numerous commenters also invoke these third-party uses, along with government benefits applications; contract and business transactions; insurance claims and premium payments; and sweepstakes, contests and promotions. Multiple comments then assert that DMM Section 608.11 will cause an uptick in missed deadlines. This assertion is misplaced. To reiterate, the present rulemaking entails no change to postmarking practices but aims instead to educate the public as to the postmark's meaning. If customers are aware that the postmark date may not align with the date on which the Postal Service first accepted possession of a mailpiece, they will be better equipped to adjust their plans accordingly. And if policymakers or other entities that create rules utilizing the postmark date are aware of what the postmark date signifies, they are better equipped to determine whether their rules adequately serve their purposes. Through the present rulemaking process, the addition of DMM Section 608.11, and further educational outreach endeavors (described more fully below), the Postal Service seeks to promote such awareness.

Some comments raise concerns that DMM Section 608.11 will disproportionately burden certain groups (including disabled, elderly, rural-dwelling, and/or financially distressed users of the mail). As noted, the Proposed Rule does not itself propose any changes to current postmarking procedures; and insofar as members of the public rely on the postmark, they are better served by a rule that clarifies the postmark's meaning and lists the options available to those who may require a postmark date aligning with the date of first postal possession. Such comments may, moreover, confuse the Proposed Rule with certain operational and service standard changes (including but not limited to RTO) that were discussed at length in a prior rulemaking (90 FR 10857) and in proceedings before the Postal Regulatory Commission (PRC Docket No. N2024-1). Whatever the case, mailers who desire a postmark by a particular date are encouraged to take measures to ensure that their mail is postmarked by the date they need, when necessary, and at no additional cost. Those not able to appear in person at a retail location to obtain a manual (local) stamp may choose to mail their time-sensitive documents before the relevant deadline, again at no additional cost.

The general concerns discussed above—regarding the postmark's alleged “dilution,” its purported status as a “service,” its uses by third parties, and the perceived burdens placed on (at least some) mailers—frequently converge on the topic of Election Mail. Indeed, a majority of comments invoke Election Mail, and as noted, election officials account for a significant portion of the comments received. The various (and at times interrelated) issues raised by these comments are summarized as follows:

• In response to this rulemaking, Boards of Elections will encourage voters to avoid mailing in their completed ballots and to use drop-boxes instead.

• This Proposed Rule, if implemented, could somehow strain the resources and capacities of election officials, who might be tasked with “tracking down potentially tens of thousands of ballots” to verify the date on which they were initially accepted by the Postal Service rather than simply referring to the postmark date.

• This Proposed Rule, if implemented, could suppress voter turnout and/or lead to “disenfranchisement” (as election officials reject mail-in ballots bearing postmark dates past the deadline).

• The Proposed Rule is designed to require voters “to pay for services like Certificates of Mailing or to request manual postmarks,” which constitutes an “an unfair burden.”

• This rulemaking will “erode public confidence in the election process,” diminish the public's confidence in mail-in ballots, or is itself “a deliberate attempt to undermine trust in elections.”

As noted above, the present rulemaking clarifies the meaning of the postmark, including for both election officials and voters who choose to use the mail to vote. The Postal Service does not administer elections, establish the rules or deadlines that govern elections, or determine whether or how elections utilize the mail or incorporate our postmark. The Postal Service also does not advocate for or against voting by mail. Instead, the Postal Service collects, processes, transports, and delivers mail and packages, and remains fully committed to transporting the nation's Election Mail when public policy makers choose to use the mail as a part of their election system or when voters choose to utilize our services to participate in an election. Boards of Elections and other officials who administer elections are free to issue guidance to voters as they see fit. To voters who choose to vote by mail, the Postal Service has long recommended as a common-sense measure that they mail their completed ballot before Election Day, and at least one week before it must be received by their local election office. Otherwise, the Postal Service has also long advised that voters who wish to ensure that a ballot envelope is postmarked on the day it is tendered to the Postal Service can request a manual (local) postmark at a retail unit, which will be applied to the mailpiece free of charge and which will inherently bear a date that aligns with the date on which the Postal Service first accepted possession of the mailpiece.

While voters who use mail-in ballots may also elect to purchase a Certificate of Mailing, which will provide the individual mailer with a receipt indicating the date on which the mailpiece was tendered to the Postal Service for mailing, the Postal Service's guidance to voters who choose to vote by mail does not include recommending the purchase of a Certificate of Mailing. In any event, whether to purchase a Certificate of Mailing is a decision for the individual mailer and does not constitute a supplemental fee for the act of voting by mail. The Postal Service has adjusted the language in the Final Rule so DMM 608.11.5 now says customers who wish to retain a record of proof of the date on which the Postal Service first accepted possession of their mailpiece(s) may purchase a Certificate of Mailing, rather than saying that they are encouraged to do so. While this language is not specific to Election Mail, the Postal Service believes the updated language may avoid further confusion.

Given that the present rulemaking (together with other educational outreach endeavors, discussed below) educates election officials about the information conveyed by postmarks and educates voters who choose to use the mail to vote that they can take certain measures if they need a postmark date that aligns with the date of mailing, it should contribute to a more effective use of the mail for their purposes. Concerns that DMM Section 608.11 may “disenfranchise” voters and/or overtax the capacities of Boards of Elections are therefore misplaced.

B. Recommendations

Many of the above issues and concerns—most especially, though not exclusively, the effects of postmarking on Election Mail—were accompanied by recommendations. These recommendations fall roughly into three categories: outreach and communication, operational and staffing changes, and product offerings. The Postal Service thanks the public for its constructive input and addresses each category of recommendation below.

1. Outreach and Communication

Multiple comments recommended educational outreach endeavors beyond the context of the present rulemaking. As explained below, a communications strategy regarding postmarks is indeed under development. Overall, our advice is simple: customers who wish to obtain a postmark aligning with the date of mailing should request a local (manual) at a retail location. The intent of this messaging is to provide information that customers would find useful, avoiding potential confusion; and to provide information that is accurate and does not constrain our operational flexibility. Commenters' recommendations regarding educational outreach were evaluated with these considerations in mind.

Some comments recommended that retail locations post notices indicating whether mail deposited by a particular time will arrive at the processing facility (and be postmarked at that facility) on the day of deposit. Such cutoff times, however, cannot always be predicted across all locations, given varied operating hours at retail locations, unscheduled trips, and transportation contingencies beyond the Postal Service's control that may possibly result in delays. This is why, as the Proposed Rule explained, the postmark date applied at processing never provided a perfectly reliable indicator of the date on which the Postal Service first accepted possession of a mailpiece, even before RTO. Furthermore, the service standard changes coincident with RTO's implementation (90 FR 10857) confer operational flexibility by divorcing collection schedules from transportation and processing schedules. As noted in the Notice of Proposed Rulemaking and elsewhere, with an extra day allotted for transportation to the originating processing facility, originating processing operations (including automated machine cancellations) do not need to respond reactively to volume arrivals, but can instead allocate processing capacity more predictably and efficiently based on known volume arrival profiles. USPS-T-4, PRC Docket No. N2024-1 (October 4, 2024), https://prc.arkcase.com/portal/filings/131269. Displays of the type of cutoff times recommended here would compel more rigid transportation schedules and would as a result constrain the very flexibility that RTO was in part designed to accommodate, thereby blunting the downstream network efficiencies that such flexibility allows. It is, therefore, neither practical, nor in all cases possible, to display “same-day postmark” cutoff times at retail locations. It is also unnecessary, as customers at those retail locations who need a postmark with the date of acceptance can ensure that their mailpieces receive that day's postmark by bringing their mailpieces to the retail counter and requesting a manual (local) postmark, free of charge. This option serves the purpose underlying the above-mentioned recommendation, while preserving the Postal Service's operational flexibility.

One comment suggests modifying blue collection box labels to indicate whether mail deposited by a particular time will arrive at the processing facility (and be postmarked at that facility) on the day of deposit. Blue collection box labels indicate when mail is retrieved from the boxes themselves, which is relevant information to the mailer who may be concerned about how long their mail may sit in the blue collection box prior to a carrier retrieving it. As RTO does not alter these retrieval times but instead impacts outgoing transportation schedules from delivery units, the suggested label modifications would convey supplementary information concerning downstream transportation, further compounding the risk of customer confusion. Moreover, for the reasons discussed above, transportation and processing schedules cannot always be predicted with enough precision to make such information consistently dependable, which could make such displays misleading for customers who seek to obtain postmarks reflecting that day's date. Nevertheless, blue collection boxes already feature QR codes that link to our public website, usps.com, which includes a tool for mailers to locate the closest Post Office; and the Postal Service plans to include on usps.com information on postmarks and postmark dates, including a recommendation that mailers bring their mail to a retail location and request a manual (local) postmark if they need a postmark with a date aligning with the date of mailing.

Multiple comments urged the Postal Service to launch a “massive education program” regarding postmarks, including notification to customers that the date on a postmark applied at a processing facility may not align with the date on which the Postal Service first accepts possession of a mailpiece (including a vote-by-mail ballot), newly established points of contact “to address public concerns,” and close collaboration with election officials. In addition to the present rulemaking, the Postal Service is developing an approach to provide public and internal education regarding postmarking. We will engage in a coordinated effort to post customer-facing information on usps.com, including making it easier to find resources we have already developed to provide information about the service standard changes generally, and about postmarking specifically. We will also engage in targeted education to specific mailing communities, including election officials. For example, we plan to include in the Official Election Mail communication (known as Kit 600), which we send to Boards of Election nationwide in advance of each federal general election season, specific information about DMM Section 608.11 and practical advice on mail-in voting consistent with prior advice (i.e., that voters mail their completed ballots before Election Day and at least one week before it must be received by their election office), along with contact information for stakeholders who wish to inquire further. Furthermore, the Postal Service has established points of contact with election officials in every jurisdiction throughout the country, and we plan to communicate clear information on postmarking and address any areas of concern.

As the date of first postal possession and the date on the postmark applied at processing facilities will diverge most frequently in ZIP Codes subject to RTO, some comments suggest that RTO-impacted facilities be widely publicized. This recommendation, which the Postal Service has seen in the context of service-standard changes more broadly as well, is, however, less helpful or straightforward than it may initially seem. Regarding both postmarking and service standards, the Postal Service's intent is to provide information to customers that is most useful and understandable (as opposed to putting the onus on the customer to determine what it means if a Post Office is or is not subject to RTO). While some information may be gleaned from an RTO designation, the Postal Service does not want customers to attach unwarranted significance to that designation. For example, whether a Post Office is subject to RTO does not determine the actual service standard for a given mailpiece; both the origin and the destination of the mailpiece must be considered. USPS.com features a service-standard lookup tool that provides this information accurately, without forcing customers to identify the various elements of our rules for determining service expectations. Customers apprised of whether a specific Post Office is subject to RTO may draw conclusions at odds with the lookup tool's outputs—as RTO is one of several inputs determining service standards, and the “leg 2” acceleration that RTO underwrites may counterbalance any day added within “leg 1.” Regarding the postmark, because the Postal Service has never guaranteed that the postmark date would align with the date of mailing, our messaging to customers is the same whether or not their Post Office is subject to RTO: customers should request a manual (local) postmark at a retail location if they want to ensure that their mailpiece receives a postmark containing a date that aligns with the date on which the Postal Service first accepted possession of their mailpiece. For these reasons, the Postal Service has chosen to focus on user-friendly tools and messaging, rather than identifying specific locations that may be subject to RTO transportation schedules.

2. Operational and Staffing Changes

Multiple comments recommended additional accommodations at retail locations for customers who desire a manual (local) postmark aligning with the date of first postal possession—for instance, a dedicated mail slot where customers can request such a postmark, or alternately, a special window held open during certain times of year (e.g., tax season). The Postal Service has taken these recommendations under advisement, and, if there appears to be a need, we will consider making appropriate adjustments to retail operations as feasible.

Some comments also recommend that the Postal Service deploy extra staff in the days and weeks preceding important deadlines, and/or provide additional training for postal personnel in anticipation of such deadlines. As yet, however, there is no evidence of surging retail traffic by customers desiring a postmark ahead of various deadlines that might necessitate additional staff to ensure that sensitive documents receive a postmark. Indeed, the overriding concern expressed in comments, as noted above, is not that mailpieces will not be postmarked at all—an issue beyond the scope of the present rulemaking—but rather that postmarks applied by automated machinery will inscribe a date later than the date of first postal possession: a concern that additional retail staff would not directly address. The Postal Service therefore deems the request for additional retail staffing premature, though it will continue to monitor the need for such staffing.

One comment demanded that “for periods close to key election dates, USPS . . . adjust its Regional Transport Optimization initiative to hire and employ . . . additional staff and transportation vehicles to ensure that ballots are timely transported to RPDC/LPC locations to receive a timely postmark.” It should be noted that the deployment of additional transportation, when warranted to ensure timely delivery, is part of the Postal Service's normal business practices, and the Postal Service will continue to monitor the need for such deployments at all times of year. Regarding “timely postmarks,” the Postal Service's messaging is intended to make clear to customers what “timely” means in terms of postal operations so customers can plan accordingly.

Some commenters recommend quarantining RTO-volume and non-RTO volume into distinct batches, and postmarking those batches separately, as this would in theory allow the postmark dates on RTO volume to be rolled back to the date on which the Postal Service took possession of it. The Postal Service has considered the feasibility of such a procedure, and has concluded that it would prove operationally impracticable, cost-prohibitive, and contrary to the aims of RTO. There is no reliable way to segregate RTO from non-RTO volume within all originating processing facilities; any attempt to do so would add significant complexity to an already complex set of operations, delivering inconsistent results at an inordinate cost. Furthermore, the volume arrival profiles enabled by RTO—which in turn allow for more efficient staffing, more productive machine deployments, and earlier dispatches into the network—depend on the simultaneous processing of RTO and non-RTO volume within compressed timeframes. Direct Testimony of Gregory White, USPS-T-4, PRC Docket No. N2024-1 (October 4, 2024), at 13-19, 25-35, https://prc.arkcase.com/portal/filings/131269. These processing efficiencies, which underwrite accelerated service standards for a majority of market-dominant mail volume, and which are expected to yield significant cost savings over time, would be unlikely to survive a scheme designed (again, unreliably) to cancel RTO and non-RTO volume in separate batches, each with its own distinct postmark date. Adding such costs and complexity is particularly unsupportable given the Postal Service's financial condition, and when there are means available for those customers who want to ensure that the postmark reflects the day of acceptance to do so.

Some comments recommend postmarking all mail before it leaves the retail unit for processing. This recommendation would also add significant costs and is therefore not being accepted. The Postal Service discontinued this practice decades ago, and the practice had functionally disappeared well before that. As such, some historical context regarding automated postmarking may be helpful. The Postal Service has for many years relied on machines at processing facilities to postmark mail; indeed, versions of the Advanced Facer Canceller System now currently deployed date back to the early 1990s, and were themselves acquired to replace an earlier generation of facer cancellers. That replacement was completed in 2008. (Postal Service High-Speed Sorters Get Smarter, Faster). As the Postal Service explained in a 2008 Postal Bulletin (https://about.usps.com/postal-bulletin/2008/html/pb22238/html/updt_001.html): “Cancellation and routine postmarking of mail at Post Offices, except for transactions at the retail window, were made obsolete with the mechanized cancellation systems installed at larger facilities in the 1970s. After the installation of the Advanced Facer Canceller Systems (AFCSs) at processing plants more than 15 years ago, routine cancellation of mail at local Post Offices was virtually eliminated. The efficiencies of the AFCSs help keep postage rates as low as possible for all customers.” In light of this shift away from routine postmarking at retail locations, the Postal Service amended Postal Operations Manual (POM) Section 312.2 to provide, in language that persists to this day, that “[c]ustomers may request a local postmark at the retail counter at all Post Offices, stations, and branches.” As the circumstances underlying this revision have not changed—that is, as the AFCS 200 machines deployed in processing facilities continue to provide a significantly more efficient means of postmarking mail than would the practice of applying postmarks at retail facilities as a matter of course—the Postal Service would not be justified in turning back the clock.

In a similar vein, other comments propose that all mailpieces deposited at retail locations by customers receive a manual (local) handstamp as a matter of course, and not merely upon request. POM Section 312.2 was adopted in its current form for a reason, however. As noted, automated processing machines at processing facilities provide a much more efficient means of postmarking mail than would 19th-century-style production lines of hand-stampers housed in every Post Office, station, and branch. We recognize that some customers may want to ensure that a piece of mail sent on a particular day receives a postmark bearing that day's date, and we accommodate those customers by applying a manual (local) postmark upon the customer's request when they tender their mail at a retail location. To go beyond that accommodation, by creating a separate postmarking process in which all mailings deposited at retail facilities receive a manual postmark regardless of mailer intent or need, would result in significant additional costs and inefficiencies.

Finally, one form letter urges that postmarks should indicate the date and time of a mailpiece's receipt by the Postal Service. As an initial matter, none of our postmarking methods—including manual postmarks applied at retail or machine postmarks applied at processing—entail stamping a specific time of day on a mailpiece. Even as to the date, reengineering the postmark so that it always shows the date of initial postal possession would vitiate the current processing system, as the automated cancellation system deployed at processing facilities affords no visibility into the date (much less the precise time) when a mailpiece first entered postal possession. As observed in the Proposed Rule, the date on postmarks applied at processing facilities represents the date of the first automated processing operation applied at that facility. The machines that apply the postmarks, and the staff who operates those machines, have no way of ascertaining whether that date happens to align with the date on which the Postal Service initially took possession of any specific mailpiece. As machines can feasibly inscribe only the date of cancellation, implementation of a postmark that uniformly inscribes the date of first postal acceptance would, in practical terms, require the circumvention of all such machines in favor of a manual stamp applied at the point of collection—resulting in the operational costs and inefficiencies noted above. Again, for customers who need a postmark with that day's date, they can go to a Postal Service-operated retail location and request a manual (local) postmark when dropping off their mail.

3. Product Offerings

One commenter recommends expanding services within the Informed Greetings platform, which generates an Intelligent Mail® Barcode (IMb), to provide insights into when and where the Postal Service had possession of a mailpiece. First, it bears noting that the Informed Greetings platform was not designed for this purpose; its intended use is, instead, to assist customers in the creation of digital greetings that then accompany the dispatch of physical mail—and the Postal Service has no intention of expanding this relatively specialized product into an all-purpose mail-tracking system. Furthermore, as noted in the Proposed Rule, IMb scans indicate possession of a mailpiece, but do not constitute evidence of the date when the Postal Service first accepted possession of a mailpiece, and neither does their absence imply that the Postal Service never accepted possession of a mailpiece. The Postal Service does not consider such scans to serve as proof of the date of postal acceptance; they therefore are not adequate substitutes for a manual (local) postmark applied at retail or services such as Certificates of Mailing.

C. Proposed Revisions to DMM 608.11

One comment urges the Postal Service to include in DMM Section 608.11 “its longstanding policy and practice that all Ballot Mail returned by voters should receive a postmark.” If the present rulemaking effectuated a change in postmarking practices impacting Ballot Mail, such an addition would perhaps be appropriate. As noted, however, the present rulemaking is intended to explain the Postal Service's operational use of the postmark, identify the markings that qualify as postmarks, and clarify what information such markings can be reliably taken to convey. As such, it does not signal any change to postmarking practices, which will continue to the same extent as before. This holds true for Ballot Mail, most of which is sent as Single-Piece First-Class Mail, and which the Postal Service postmarks in the manner described by the present rulemaking. (It bears mentioning that the additional efforts to postmark all Ballot Mail fall under the Postal Service's practices specifically related to Election Mail, and that these measures exceed the present rulemaking's scope and are as such not contemplated by DMM 608.11). The Postal Service therefore declines to adopt this suggested revision.

Some comments recommend the inclusion of language in the DMM stating that IMb scans may serve as proof of mailing. The Postal Service declines to adopt this suggestion, as DMM Section 608.11 already contains an entry on IMb scans. As noted there, IMb scans indicate that a mailpiece was in the Postal Service's possession, but do not constitute evidence of the date when the Postal Service first accepted possession of a mailpiece.

One commenter proposed numerous detailed revisions to DMM Section 608.11. The Postal Service thanks this commenter for their thorough engagement and addresses the commenter's recommendations at length as follows.

Regarding Section 608.11.1, the commenter observes, correctly, that when mail that otherwise would be cancelled on an automated processing machine is unable to be cancelled, it is the Postal Service's practice to apply a manual postmark to such mail at an originating processing facility. The commenter then opines that the proposed definition offered by Section 608.11.1 does not account for this eventuality. Such manual postmarks, however, are typically applied after a mailpiece is rejected by an automated processing machine; and the originally proposed language of Section 608.11.1, which indexes the postmark date to the performance of automated processing operations, does indeed contemplate those rare instances when a mailpiece is in this way rejected (and subsequently hand-stamped).

The commenter also recalls that, as explained by the Proposed Rule, the Postal Service utilizes a “rollover” time on its processing machines to reflect the fact that originating operations for particular mailpieces occur overnight, and hence those operations can cross calendar days. On this basis, the commenter recommends that Section 608.11.1 align the postmark date as applied at processing facilities with “the date on which the mailpiece was inducted into processing.” The Postal Service declines to adopt this revision, for two reasons. First, the phrase “was inducted into processing” may be taken to mean “arrived at a processing facility”; some volume, however, may arrive at a processing facility before midnight, but after that day's cutoff time for processing—a nuance that the proposed revision, if interpreted in this manner, would fail to capture. Second, “inducted into processing” may instead be taken to mean “entered into processing operations”; and such a construction would not account for volume that arrives before the cutoff time for processing operations, and thus receives a postmark aligned with its date of arrival, but is not “inducted into processing” until after midnight. In light of these complexities, the Postal Service has determined that the original proposed language supplies the most comprehensible, succinct, and accurate formulation available to describe postmark dates as applied at processing facilities.

The commenter also observes that some postmarks display location indicators (such as “Metroplex, MI”) that do not strictly correspond to geographical entities, but instead map onto postal processing facilities; accordingly, the commenter recommends that in Section 608.11.1, postmarks be characterized as displaying the “name or location” (rather than just the location) of the facility in which they were applied. This recommendation is well-taken and will be incorporated into the Final Rule.

Finally, the commenter recommends that Section 608.11.1 be broken into shorter sentences. In its original proposed form, Section 608.11.1 aimed to encompass the entire definition of “postmarks” within one sentence in order to emphasize that postmarks are officially defined by Section 608.11.1 in its entirety. The Postal Service acknowledges, however, that simplified syntax would likely make Section 608.11.1 easier to understand, and it is already clear that the entirety of the text in Section 608.11.1, whether expressed as a single sentence or as multiple sentences, constitutes the definition of a “postmark,” just as the Section title implies. We will therefore revise Section 608.11.1 in a manner consistent with the commenter's recommendations in this regard.

Regarding Section 608.11.2, the commenter urges greater specificity in the description of manual postmarks that are applied at processing facilities to non-machinable mail. Namely, in lieu of the phrase, “when a mailpiece that would ordinarily be postmarked on an automated cancellation machine is unable to be canceled,” the commenter suggests language specifying that mail characteristics may impact machinability. The original proposed language, however, captures the circumstance evoked by the commenter—mailpieces may, after all, prove “unable to be cancelled” due to their physical characteristics. The Postal Service therefore declines to adopt the suggested specification.

The commenter also observes that while some Postage Validation Imprint (PVI) labels display the city, state, and ZIP Code of the postal facility at which they are printed, others display only the facility's ZIP Code. On this basis, the commenter disputes the accuracy of DMM Section 608.11.2 as originally proposed, insofar as it represents that PVI labels “indicate . . . the location of the retail unit at which the mailpiece was accepted.” While it is true that some PVI labels feature only the ZIP code of the relevant facility, this fact is not, in the Postal Service's view, inconsistent with the language of Section 608.11.2 as proposed, since ZIP Codes designate location.

Finally, the commenter recommends that Section 608.11.2 state explicitly that local (manual) postmarks may be obtained free of charge. The Postal Service agrees that a reminder of this postal policy would be helpful and will therefore make conforming changes to Section 608.11.2. The phrase “first accepts possession” occurs regularly in the Proposed Rule, including throughout the proposed DMM Section. The commenter criticizes this phrase on two grounds: that the qualifier “first” is redundant (since in nearly every conceivable instance, the Postal Service accepts possession of a mailpiece only once); and that the phrase as a whole is supposedly inaccurate (in that the Postal Service does not in fact “accept possession” of mailpieces, but rather “takes possession” of them, often in an allegedly passive manner). For these reasons, the commenter suggests replacing the phrase “first accepts possession,” with the phrase “first possesses.” On the first count, the phrase “first accepts possession” has the merit of accentuating that there is a point in time when the Postal Service (through its employees) has taken custody of a mailpiece through some affirmative action—collecting the mail from a residence or a collection box, accepting a mailpiece tendered to a retail employee by a customer, etc. On the second count, the difference between “first accepting possession,” “first taking possession,” and “first possessing” is less than fully clear; if, as the commenter hints, the latter formulation implies a certain measure of passivity in how the Postal Service takes possession of the mail, its premise is inaccurate. The Postal Service, acting through its employees, actively takes possession of mailpieces tendered by mailers. Indeed, the notion of accepting possession more precisely renders the transactional nexus between the Postal Service and its customers, since custody of a mailpiece cannot properly be transferred unless it is both voluntarily offered and affirmatively received. For these reasons, DMM 608.11 will retain the phrase, “first accepts possession.”

IV. Explanation of Final Rules

After evaluating the comments, the Postal Service is adopting the new DMM Section 608.11. The final text of DMM Section 608.11 incorporates the revisions noted above. The Postal Service will also, on its own initiative, make two amendments concerning manual (local) postmarks obtained at retail locations. First, the phrase “Manual (local) postmarks are available, upon a customer's request . . . ,” in Section 608.11.2, is changed to “Manual (local) postmarks are applied to a mailpiece, upon a customer's request. . . .” Second, Section 608.11.4 includes the following reminder of the 50 mailpiece limit for manual (local) postmarks: “Customers planning to present significant mail volume—50 or more mailpieces—for (local) postmarks should contact the postmaster or other manager in advance to ensure that adequate resources are available.”

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

* * * * *

600 Basic Standards for All Mailing Services

* * * * *

608 Postal Information and Resources

* * * * *

[Add the text of part 11 to read as follows:]

11.0 Postmarks and Postal Possession

11.1 Postmark Defined

A postmark is a marking applied by the Postal Service to a mailpiece. If applied at a retail unit, the postmark displays the name or location of the retail unit and the date on which the mailpiece was accepted at the retail unit. If applied at a processing facility, the postmark displays the name or location of the processing facility and the date of the first automated processing operation performed on that mailpiece. Where necessary, a postmark also cancels postage so that it cannot be reused.

11.2 Locations at Which a Postmark Is Applied

Postmarks are generally applied by the Postal Service via automation on machines in originating processing facilities but may also be applied manually by Postal Service personnel at those facilities, or by a Postal Service employee at a retail unit when a customer presents a mailpiece at a retail counter and requests a postmark.

• Automated Machine-Applied Postmarks. These are applied by automated cancellation machines located in originating processing facilities, including in Regional Processing and Distribution Centers (RPDCs) and select Local Processing Centers (LPCs). Automated machine-applied postmarks cancel postage and identify the processing facility that applied the postmark and the date of the first automated processing operation performed on that mailpiece. Mailpieces prepared according to certain criteria will bypass automated cancellation to improve delivery speed.

• Manual Postmarks on Non-Machinable Mail at Processing Facilities. Where a mailpiece that would ordinarily be postmarked on an automated cancellation machine is unable to be canceled, the Postal Service's common practice is to apply a manual postmark to the mailpiece at the originating processing facility. Like automated machine cancellations, these manual postmarks register the facility at which the mailpiece was received and the date that the first automated processing operation would have been performed on that mailpiece.

• Postmarks at Retail Locations: Manual (local) postmarks are applied to mailpieces, upon a customer's request, free of charge at the retail counter of every Post Office, station, or branch. Manual (local) postmarks at retail locations cancel postage (if necessary), and indicate the location of the retail unit at which the postmark is applied and the date on which the mailpiece was accepted at that unit.

• Postage Validation Imprint (PVI) Labels at Retail Locations. These are printed by Postal Service employees at retail locations and are applied to a mailpiece by a Postal Service employee upon acceptance of the piece. These labels indicate the postage paid for a mailpiece and, like manual (local) postmarks applied at retail locations, indicate the location of the retail unit at which the postmark is applied and the date on which the mailpiece was accepted at that unit.

11.3 Information Conveyed by a Postmark

The presence of a postmark confirms that the Postal Service accepted custody of a mailpiece, and that the mailpiece was in the possession of the Postal Service on the identified date. However, for the reasons that are further described below, the postmark date does not necessarily indicate the first day that the Postal Service had possession of the mailpiece. Moreover, the absence of a postmark does not imply that the Postal Service did not accept custody of a mailpiece, because the Postal Service does not postmark all mail in the ordinary course of operations.

The name or location displayed on a postmark shows the processing facility or retail unit at which the postmark was applied. The date displayed on a postmark shows the date of the first automated processing operation performed on a mailpiece or, alternately, the date when a mailpiece was accepted at a retail unit. Because most postmarks are applied at processing facilities, they do not necessarily represent either the place at which, or the date on which, the Postal Service first accepted possession of the mailpiece. The date inscribed by a postmark applied at a processing facility may be later than the date that the mailpiece was first accepted by the Postal Service. See 11.5. for options available to customers who seek proof of the date on which the Postal Service first accepted custody of a mailpiece.

11.4 Postmarks Aligning With the Date of Acceptance

Customers who want a postmark aligning with the date on which the Postal Service first accepted possession of their mailpiece may request, for no additional fee, a manual (local) postmark at any Post Office, station, or branch when tendering their mailpiece. Customers planning to present significant mail volume—50 or more mailpieces—for (local) postmarks should contact the postmaster or other manager in advance to ensure that adequate resources are available.

Because a manual (local) postmark is applied upon acceptance at the retail counter, the date on that postmark aligns with the date on which the Postal Service first accepted possession of the mailpiece. Similarly, the date on PVI labels, which are applied by Postal Service employees at the retail counter at any Post Office, station, or branch to a mailpiece for which a customer is simultaneously paying for postage and tendering the mailpiece for mailing, also aligns with the date on which the Postal Service first accepted possession of a mailpiece.

Please note that pre-printed labels applied by the customer prior to mailing—e.g., postage printed from Self-Service Kiosks (SSK), Click-N-Ship online postage, and meter strips—show merely that a customer has purchased postage and the date on which the postage was printed; they do not in themselves demonstrate that the Postal Service accepted the mailpiece, or the date on which any such acceptance occurred.

11.5 Services Proving the Date of Postal Acceptance

Customers who wish to retain a record or proof of the date on which the Postal Service first accepted possession of their mailpiece(s) may purchase a Certificate of Mailing. As described more fully in Section 500.5, a Certificate of Mailing is a service designed to provide evidence that individual mailpieces have been presented for mailing. As described more fully in Sections 500.2 and 500.3 respectively, Registered Mail and Certified Mail services also provide mailing receipts for individual mailpieces.

11.6 Auxiliary Markings and Data

During the course of postal operations, the Postal Service may inscribe markings on mailpieces and/or generate scan data. Such auxiliary markings and data indicate possession of a mailpiece; however, they do not constitute evidence of the date when the Postal Service first accepted possession of a mailpiece. Furthermore, the absence of these auxiliary markings or data does not imply that the Postal Service did not accept possession of a mailpiece.

A non-exhaustive list of such auxiliary markings and data include:

• Identification Tags. Mailpieces processed on automated machines (i.e., mailpieces that are not deposited through bulk or commercial methods) are typically imprinted with a fluorescent identification tag. This tag encodes a variety of information, including the date on which the tag itself was applied.

• Scans of an Intelligent Mail® Barcode (IMb). As more fully described in Section 204.1, IMbs are applied by customers to mailpieces—primarily to letters, flats, and cards (as well as to certain competitive product mailings, such as USPS Priority Mail®)—and encode a variety of data, including the identity of the mailer, the services requested, a serial number, and a routing code. The IMb itself does not verify Postal Service possession, as it is applied by a customer before a mailpiece is tendered to the Postal Service. Rather, IMbs are typically scanned at various points in a mailpiece's trajectory, and each scan event reflects the time and place of the scan. Where the mailer includes unique serial numbers on each mailpiece containing an IMb, IMb scan data can be used to track the processing of specific mailpieces. Commercial mailers can access IMb scan data via the Informed Visibility interface. Please note that for information generated by IMb scans to be accurate, IMbs must be properly prepared as specified in Section 204.1. Duplicate and/or illegible barcodes will compromise the availability and reliability of scan event data.

* * * * *

Kevin Rayburn,
Attorney, Ethics & Legal Compliance.

[FR Doc. 2025-20740 Filed 11-21-25; 8:45 am]

BILLING CODE 7710-12-P